DEPARTMENT OF COMMERCE

International Trade Administration

[A-583-833]

Certain Polyester Staple Fiber From Taiwan: Extension of the Final Results of Antidumping Duty Administrative Review

AGENCY: Import Administration, International Trade Administration, Department of Commerce.

DATES: Effective Date: June 16, 2010.

FOR FURTHER INFORMATION CONTACT: Michael A. Romani, AD/CVD Operations, Office 5, Import Administration, International Trade Administration, U.S. Department of Commerce, 14th Street and Constitution Avenue, NW., Washington, DC 20230; telephone: (202) 482-0198.

SUPPLEMENTARY INFORMATION:

Background

On February 5, 2010, the Department of Commerce (the Department) published the preliminary results of the administrative review of the antidumping duty order on certain polyester staple fiber from Taiwan. See Certain Polyester Staple Fiber from Taiwan: Preliminary Results of Antidumping Duty Administrative Review, 75 FR 5964 (February 5, 2010). The review covers the period May 1, 2008, through April 30, 2009. As explained in the memorandum from the Deputy Assistant Secretary for Import Administration, we have exercised our discretion to toll deadlines for the duration of the closure of the Federal Government from February 5 through February 12, 2010. Thus, all deadlines in this segment of the proceeding have been extended by seven days. See Memorandum to the Record from Ronald Lorentzen, DAS for Import Administration, regarding “Tolling of Administrative Deadlines as a Result of the Government Closure During the Recent Snowstorm,” dated February 12, 2010. The final results of the review are currently due no later than June 12, 2010.

Extension of Time Limit for Final Results

Section 751(a)(3)(A) of the Tariff Act of 1930, as amended (the Act), requires the Department to complete the final results within 120 days after the date on which the preliminary results are published. If it is not practicable to complete the final results within this time period and if the Department did not extend the time for issuing the preliminary results, section 751(a)(3)(A) of the Act allows the Department to extend the time limit for the completion of the final results to not later than 300 days after the date on which the preliminary results are published.

We determine that it is not practicable to complete the final results of this review within the original time limit because we need additional time to analyze certain complicated issues, e.g., model-match issues, for the final results. Therefore, we are extending the time period for issuing the final results of this review by 37 days until July 19, 2010.

This notice is published in accordance with section 751(a)(3)(A) of the Act and 19 CFR 351.213(h)(2).

Dated: June 10, 2010.
John M. Andersen,
Acting Deputy Assistant Secretary for Antidumping and Countervailing Duty Operations.

[FR Doc. 2010-14561 Filed 6-15-10; 8:45 am]

BILLING CODE 3510-DS-P